DEPARTMENT OF COMMERCE

International Trade Administration

Initiation of Antidumping and Countervailing Duty Administrative Reviews and Requests for Revocation in Part

AGENCY: Import Administration, International Trade Administration, Department of Commerce.

SUMMARY: The Department of Commerce has received requests to conduct administrative reviews of various antidumping and countervailing duty orders and findings with April anniversary dates. In accordance with the Department's regulations, we are initiating those administrative reviews. The Department of Commerce also received requests to revoke two antidumping duty orders in part.

DATES: Effective Date: June 4, 2008.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b)(2002), for administrative reviews of various antidumping and countervailing duty orders and findings with April anniversary dates. The Department also received timely requests to revoke in part the antidumping duty orders on Certain Steel Concrete Reinforcing Bars from Turkey with respect to two exporters and Magnesium Metal from the Russian Federation with respect to one exporter.

Initiation of Reviews:

In accordance with section 19 CFR 351.221(c)(1)(i), we are initiating administrative reviews of the following antidumping and countervailing duty orders and findings. We intend to issue the final results of these reviews not later than April 30, 2009.

| Period to be reviewed
Antidumping Duty Proceedings
Russia: Magnesium Metal, A-821-819 | 4/1/07-3/31/08
PSC VSMPO-AVISMA Corporation
Solikamsk Magnesium Works
The People's Republic of China: Brake Rotors,¹ A-570-846 | 4/1/07-3/31/08
National Automotive Industry Import & Export Corporation or China National Automotive Industry Import & Export Corporation, and manufactured by any company other than Shandong Laizhou CAPCO Industry (“Laizhou CAPCO”)
Laizhou CAPCO, and manufactured by any company other than Laizhou CAPCO
Laizhou Auto Brake Equipment Co., Ltd.
Longkou Haimeng Machinery Co., Ltd.
Laizhou SanLi
Qingdao Gren Co.
Yantai Winhere Auto-Part Manufacturing Co., Ltd.
Zibo Botai Manufacturing Co., Ltd.
Laizhou Hongda Auto Replacement Parts Co., Ltd.
Laizhou Luda Sedan Fittings Company, Ltd.
Qingdao Meita Automotive Industry Co., Ltd.
Longkou TLC Machinery Co., Ltd.
Zibo Golden Harvest Machinery Limited Company
Xianghe Zichen Casting Company, Ltd.
Laizhou Luqi Machinery Co., Ltd.
Longkou Jinzheng Machinery Co.
Dixion Brake System (Longkou) Ltd.
Laizhou Wally Automobile Co., Ltd.
Longkou Orient Autoparts Co., Ltd.
The People's Republic of China: Certain ActivatedCarbon,² A-570-904 | 10/11/06-3/31/08
Actview Carbon Technology Co., Ltd.
Alashan Yongtai Activated Carbon Co., Ltd.
Beijing Hibridge Trading Co., Ltd.
Beijing Pacific Activated Carbon Products Co., Ltd.
Calgon Carbon (Tianjin) Co., Ltd.
Changji Hongke Activated Carbon Co., Ltd.
China Nuclear Ningxia Activated Carbon Plant
Da Neng Zheng Da Activated Carbon Co., Ltd.
Datong Carbon Corporation
Datong Changtai Activated Carbon Co., Ltd.
Datong City Zouyun County Activated Carbon Co., Ltd.
Datong Forward Activated Carbon Co., Ltd.
Datong Fu Ping Activated Carbon Co., Ltd.
Datong Fuping Activated Carbon Co., Ltd.
Datong Guanghua Activated Carbon Co., Ltd.
Datong Hongtai Activated Carbon Co., Ltd.
Datong Huanqing Activated Carbon Co., Ltd.
Datong Huibao Activated Carbon Co., Ltd.
Datong Huiyuan Cooperative Activated Carbon Plant
Datong Jugiang Activated Carbon Co., Ltd.
Datong Kangda Activated Carbon Factory
Datong Locomotive Coal & Chemicals Co., Ltd.
Datong Municipal Yunguang Activated Carbon Co., Ltd.
Datong Runmei Activated Carbon Factory
Datong Tianzhao Activated Carbon Co., Ltd.
DaTong Tri-Star & Power Carbon Plant
Datong Weidu Activated Carbon Co., Ltd.
Datong Yunguang Chemicals Plant
Datong Zuoyun
Dushanzi Chemical Factory
Fangyuan Carbonization Co., Ltd.
Fu Yuan Activated Carbon Co., Ltd.
Hebei Foreign Trade Advertisement Company (and its successor company, Hebei Shenglun Import and Export Group Company)
Hegongye Ninxia Activated Carbon Factory
Hongke Activated Carbon Co., Ltd.
Huairen Jinbei Chemical Co., Ltd.
Jacobi Carbons AB and its affiliates, Tianjin Jacobi International Trading Co., Ltd. and Jacobi Carbons, Inc.
Jiaocheng Xinxin Purification Material Co. Ltd.
Jilin Bright Future Chemicals Company, Ltd.
Jilin Province Bright Future Industry and Commerce Co., Ltd.
Jing Mao (Dongguan) Activated Carbon Co., Ltd.
Ningxia Baota Activated Carbon Co., Ltd.
Ningxia Fengyuan Activated Carbon Co., Ltd.
Ningxia Guanghua A/C Co., Ltd.
Ningxia Guanghua Activated Carbon Co., Ltd.
Ningxia Guanghua Chemical Activated Carbon Co., Ltd.
Ningxia Guanghua Cherishment Activated Carbon Co., Ltd.
Ningxia Haoqing Activated Carbon Co., Ltd.
Ningxia Honghua Carbon Industrial Corporation
Ningxia Huahui Activated Carbon Co., Ltd.
Ningxia Huinong Xingsheng Activated Carbon Co., Ltd.
Ningxia Lingzhou Foreign Trade Co., Ltd.
Ningxia Luyuangheng Activated Carbon Co., Ltd.
Ningxia Mineral & Chemical Limited
Ningxia Pingluo County YaoFu Activated Carbon Factory
Ningxia Pingluo County Yaofu Activated Carbon Plant
Ningxia Pingluo Xuanzhong Activated Carbon Co., Ltd.
Ningxia Pingluo Yaofu Activated Carbon Factory
Ningxia Tianfu Activated Carbon Co., Ltd.
Ningxia Xingsheng Coal and Active Carbon Co., Ltd.
Ningxia Yinchuan Lanqiya Activated Carbon Co., Ltd.
Ningxia Yirong Alloy Iron Co., Ltd.
Ninxia Tongfu Coking Co., Ltd.
Nuclear Ningxia Activated Carbon Co., Ltd.
Panshan Import and Export Corporation
Pingluo Xuanzhong Activated Carbon Co., Ltd.
Pingluo Yu Yang Activated Carbon Co., Ltd.
Shanxi Bluesky Purification Material Co., Ltd.
Shanxi DMD Corporation
Shanxi Industry Technology Trading Co., Ltd.
Shanxi Newtime Co., Ltd.
Shanxi Qixian Foreign Trade Corporation
Shanxi Sincere Industrial Co., Ltd.
Shanxi Xiaoyi Huanyu Chemicals Co., Ltd.
Shanxi Xinhua Activated Carbon Co., Ltd.
Shanxi Xinhua Chemical Co., Ltd.
Shanxi Xuanzhong Chemical Industry Co., Ltd.
Tangshan Solid Carbon Co., Ltd.
Tianjin Jacobi International Trading Co., Ltd.
Tianjin Maijin Industries Co., Ltd.
Tonghua Bright Future Activated Carbon Plant
Tonghua Xinpeng Activated Carbon Factory
United Manufacturing International (Beijing) Ltd.
Xi Li Activated Carbon Co., Ltd.
Xi'an Shuntong International Trade & Industrials Co., Ltd.
Xingtai Coal Chemical Co., Ltd.
Xinhua Chemical Co., Ltd.
Yinchuan Lanqiya Activated Carbon Co., Ltd.
Yuyang Activated Carbon Co., Ltd.
Zuoyun Bright Future Activated Carbon Plant
The People's Republic of China: Magnesium Metal, A-570-896 | 4/1/07—3/31/08
Tianjin Magnesium International Co., Ltd.
Turkey: Certain Steel Concrete Reinforcing Bars, A-489-807 | 4/1/07—3/31/08
Ege Celik Endustrisi Sanayi ve Ticaret A.S./Ege Dis Ticaret A.S.
Ekinciler Demir ve Celik Sanayi A.S. and Ekinciler Dis Ticaret A.S.
Izmir Demir Celik Sanayi A.S.
Habas Sinai ve Tibbi Gazlar Istihsal Endustrisi A.S.
Kaptan Demir Celik Endustrisi ve Ticaret A.S. and Kaptan Metal Dis Ticaret ve Nakliyat A.S.
Kroman Celik Sanayi A.S.
Nursan Celik Sanayi ve Haddecilik A.S./Nursan Dis Ticaret A.S.
Countervailing Duty Proceeding
None.
Suspension Agreements
None.
¹ If one of the named companies does not qualify for a separate rate, all other exporters of brake rotors from the People's Republic of China who have not qualified for a separate rate are deemed to be covered by this review as part of the single PRC entity of which the named exporters are a part.
² If one of the named companies does not qualify for a separate rate, all other exporters of certain activated carbon from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305. On January 22, 2008, the Department published Antidumping and Countervailing Duty Proceedings: Documents Submission Procedures; APO Procedures (73 FR 3634). Those procedures apply to administrative reviews included in this notice of initiation. Parties wishing to participate in any of these administrative reviews should ensure that they meet the requirements of these procedures (e.g., the filing of separate letters of appearance as discussed at 19 CFR 351.103(d)).

These initiations and this notice are in accordance with section 751(a) of the Tariff Act of 1930, as amended (19 U.S.C. 1675(a)), and 19 CFR 351.221(c)(1)(i).

Dated: May 29, 2008.
Stephen J. Claeys,
Deputy Assistant Secretary for Import Administration.

[FR Doc. E8-12468 Filed 6-3-08; 8:45 am]

BILLING CODE 3510-DS-P